DEPARTMENT OF DEFENSE

Department of the Navy

Notice of Availability of Invention for Licensing; Government-Owned Inventions

AGENCY: Department of the Navy, DOD.

ACTION: Notice.

SUMMARY: The inventions listed below are assigned to the United States Government as represented by the Secretary of the Navy and is made available for licensing by the Department of the Navy.

The following patent and patent applications are available for licensing:

U.S. Patent Number 6,165,295: Gas-Generating Liquid Compositions (PERSOL 1).

U.S. Patent Application Serial Number 09/437,727: Automated Contact Gage System Using Three-Axis Contact Contour Comparator.

U.S. Patent Application Serial Number 09/391,605: Differential Pressure Flow Sensor.

U.S. Patent Application Serial Number 09/649,607: Automated Bola Launcher.

U.S. Patent Application Serial Number 09/678,302: Ignitor Apparatus.

ADDRESSES: Requests for copies of the inventions cited should be directed to: Dr. J. Scott Deiter, Head, Technology Transfer Office, Naval Surface Warfare Center Indian Head Division, Code 05T, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Authority: 35 U.S.C. 2076; 37 CFR Part 404.

Dated: February 5, 2001.
J. L. Roth,
Lieutenant Commander, Judge Advocate General's Corps, U.S. Navy, Federal Register Liaison Officer.

[FR Doc. 01-3717 Filed 2-13-01; 8:45 am]

BILLING CODE 3810-FF-U